DEPARTMENT OF THE TREASURY

Internal Revenue Service

26 CFR Part 301

[TD 9439]

RIN 1545-BC93

Disclosure of Return Information to the Bureau of Economic Analysis; Correction

AGENCY: Internal Revenue Service (IRS), Treasury.

ACTION: Correcting amendments.

SUMMARY: This document contains corrections to temporary regulations (TD 9439) that were published in the Federal Register on Monday, December 29, 2008 (73 FR 79361) relating to disclosures of corporate tax return information to the Bureau of Economic Analysis.

DATES: This correction is effective on February 20, 2009, and is applicable on December 29, 2008.

FOR FURTHER INFORMATION CONTACT: Philip J. Lindenmuth, (202) 622-3400 (not a toll-free number).

SUPPLEMENTARY INFORMATION:

Background

The temporary regulations that are the subject of this document are under section 6103 of the Internal Revenue Code.

Need for Correction

The temporary regulations (TD 9439) that were published in the Federal Register on December 29, 2008, inadvertently removed § 301.6103(j)(1)-1T in its entirety rather than removing § 301.6103(j)(1)-1T(c). This document correctly adds the text of § 301.6103(j)(1)-1T into the Code of Federal Regulations.

List of Subjects in 26 CFR Part 301

Employment taxes, Estate taxes, Excise taxes, Gift taxes, Income taxes, Penalties, Reporting and recordkeeping requirements.

Correction of Publication

Accordingly, 26 CFR Part 301 is corrected by making the following correcting amendments:

PART 301—PROCEDURE AND ADMINISTRATION

Paragraph 1. The authority citation for part 301 continues to read in part as follows:

Authority: 26 U.S.C. 7805 * * *

Par. 2. Section 301.6103(j)(1)-1T is added to read as follows:

§ 301.6103(j)(1)-1T Disclosures of return information reflected on returns to officers and employees of the Department of Commerce for certain statistical purposes and related activities (temporary).

(a) through (b)(3)(xxiv) [Reserved]. For further guidance, see § 301.6103(j)(1)-1(a) through (b)(3)(xxiv).

(xxv) From Form 6765 (when filed with corporation income tax returns)—total qualified research expenses.

(c) and (d) [Reserved]. For further guidance, see § 301.6103(j)(1)-1(c) and (d).

(e) Effective/applicability date. The amendment to paragraph (b)(3)(xxv) of this section is applicable to disclosures to the Bureau of the Census on or after December 31, 2007.

(f) Expiration date. The applicability of the amendment to paragraph (b)(3)(xxv) of this section expires on or before December 28, 2010.

Cynthia E. Grigsby,
Senior Federal Register Liaison Officer, Publications and Regulations Branch, Legal Processing Division, Associate Chief Counsel, (Procedure and Administration).

[FR Doc. E9-3599 Filed 2-19-09; 8:45 am]

BILLING CODE 4830-01-P